DEPARTMENT OF COMMERCE

National Oceanic and Atmospheric Administration

[I.D. 011405A]

Marine Mammals; File No. 1073-1777

AGENCY: National Marine Fisheries Service (NMFS), National Oceanic and Atmospheric Administration (NOAA), Commerce.

ACTION: Receipt of application for permit.

SUMMARY: Notice is hereby given that Dr. Kathy Carlstead, Honolulu Zoo, 151 Kapahulu Ave., Honolulu, HI 96815, has requested a permit to import marine mammal parts for scientific research.

DATES: Written or telefaxed comments must be received on or before February 23, 2005.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1073-1777.

FOR FURTHER INFORMATION CONTACT: Jennifer Skidmore or Amy Sloan, (301)713-2289.

SUPPLEMENTARY INFORMATION: The subject permit is requested under the authority of the Marine Mammal Protection Act of 1972, as amended (16 U.S.C. 1361 et seq.), and the Regulations Governing the Taking and Importing of Marine Mammals (50 CFR part 216).

The applicant is requesting a permit to import into the United States approximately 24 blood samples, 150 fecal samples, and 150 saliva samples from three captive false killer whales Pseudorca crassidens from Ocean Adventure in the Philippines. The applicant will be studying stress in false killer whales using behavioral observations, non-invasive glucocorticoid assessment and analysis of blood profile panels. The following research questions will be addressed: (1) are in-water interactions with visitors stress-inducing for captive pseudorcas? (2) which combinations of physiological and behavioral measurements are most useful for assessment of stress in pseudorcas? and (3) what are the effects on stress responses of pseudorcas of introducing dolphins to the facility? The permit is requested for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: January 14, 2005.
Amy C. Sloan,
Acting Chief, Permits, Conservation and Education Division, Office of Protected Resources, National Marine Fisheries Service.

[FR Doc. 05-1236 Filed 1-21-05; 8:45 am]

BILLING CODE 3510-22-S